DEPARTMENT OF LABOR

Employment and Training Administration

[TA-W-60,931]

Renfro Charleston, LLC, a/k/a Charleston Hosiery, Inc., Fort Payne, AL; Notice of Termination of Investigation

Pursuant to Section 221 of the Trade Act of 1974, an investigation was initiated on February 9, 2007 in response to a worker petition filed by a company official on behalf of workers at Renfro Charleston, LLC, a/k/a Charleston Hosiery, Inc., Fort Payne, Alabama.

The petitioning group of workers is covered by an active certification (TA-W-56,770), which expires on April 7, 2007. Consequently, further investigation in this case would serve no purpose, and the investigation has been terminated.

Signed at Washington, DC this 9th day of February, 2007.
Richard Church,
Certifying Officer, Division of Trade Adjustment Assistance.

[FR Doc. E7-2862 Filed 2-20-07; 8:45 am]

BILLING CODE 4510-FN-P